DEPARTMENT OF COMMERCE

National Oceanic and Atmospheric Administration

50 CFR Part 660

[Docket No. 210312-0054]

RIN 0648-BK15

Fisheries Off West Coast States; Emergency Action to Temporarily Extend the Primary Sablefish Fishery Season; Correction

AGENCY: National Marine Fisheries Service (NMFS), National Oceanic and Atmospheric Administration (NOAA), Commerce.

ACTION: Correcting amendment.

SUMMARY: This action corrects the regulations governing the West Coast Sablefish Primary fishery after the expiration of the emergency rule to temporarily extend the 2020 season for the Sablefish Primary fishery. The amendatory instructions for the temporary rule were written incorrectly so that when the temporary rule expired, important regulations were removed and reserved rather than reinstated correctly. These corrections are necessary so the regulations accurately implement the Pacific Fishery Management Council's intent.

DATES: This correction is effective March 18, 2021.

FOR FURTHER INFORMATION CONTACT: Colin Sayre, phone: (206) 526 4656 or email: colin.sayre@noaa.gov.

SUPPLEMENTARY INFORMATION: NMFS published a temporary emergency rule on October 27, 2020 (85 FR 68001), that extended the season length for the West Coast Sablefish Primary fishery. The temporary rule extended the season close date from October 31 to December 31 for the 2020 fishing year, based on a recommendation from the Pacific Fishery Management Council (the Council) during its September 2020 meeting. The temporary rule expired at noon on December 31, 2020. After expiration of the temporary rule, NMFS noted the need for two corrections.

Corrections

This action corrects the regulations governing the West Coast Sablefish Primary fishery. The season dates for the sablefish primary fishery have historically run from April 1 until October 31 and were established in regulations under Amendment 14 to the Pacific Coast Groundfish Fishery Management Plan (August 7, 2001; 66 FR 41152). The amendatory instructions for the temporary rule (October 27, 2020; 85 FR 68001) were written incorrectly so that when the temporary rule expired, two important regulations were reserved rather than reinstated correctly. Specifically, the season dates codified at § 660.231(b)(1) were inadvertently removed and reserved. This correction will reinstate that paragraph which sets out the season dates for this fishery. The reinstated season dates are April 1 to October 31.

Additionally, NMFS inadvertently removed and reserved a paragraph referring to the season dates for the primary sablefish fishery at § 660.213(d)(2) as part of the recordkeeping and reporting requirements for the fishery. This correction will reinstate that paragraph.

These two corrections are consistent with the Council action to extend the season length for the West Coast Sablefish Primary fishery temporarily for the 2020 fishing year, and are needed to correctly implement the intent of the Council's recommendation in September 2020. The substance of the text is unchanged from what was in existing regulations prior to the October 27, 2020 temporary rule.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors related to the October 27, 2020 temporary rule. Immediate correction of the errors is necessary to prevent confusion among participants in the fishery that could result in issues with enforcement of season dates for the fishery. To effectively correct the errors, the changes in this action must be effective upon publication as the fishery will begin on April 1, 2021. Thus, there is not sufficient time for notice and comment. In addition, notice and comment is unnecessary because this correcting amendment reinstates previously established regulations and corrects inadvertent errors related to the October 27, 2020 temporary rule. These corrections will not affect the results of analyses conducted to support management decisions in the Pacific coast groundfish fishery. No change in operating practices in the fishery is required.

For the same reasons stated above, the AA has determined good cause exists to waive the 30-day delay in effectiveness pursuant to 5 U.S.C. 553(d). This correcting amendment reinstates season dates in previously established regulations that should have been reinstated following expiration of the October 27 temporary rule. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

List of Subjects in 50 CFR Part 660

Fisheries, Fishing, and Indian Fisheries.

Dated: March 12, 2021.
Samuel D. Rauch, III,
Deputy Assistant Administrator for Regulatory Programs, National Marine Fisheries Service.

For the reasons set out in the preamble, 50 CFR part 660 is corrected by making the following correcting amendments:

PART 660—FISHERIES OFF WEST COAST STATES

1. The authority citation for part 660 continues to read as follows:

Authority: 16 U.S.C. 1801 et seq., 16 U.S.C. 773 et seq., and 16 U.S.C. 7001 et seq.

2. In § 660.213(d)(2), add paragraph (d)(2) to read as follows:

§ 660.213 Fixed gear fishery—recordkeeping and reporting.

* * * * *

(d) * * *

(2) For participants in the sablefish primary season, the cumulative limit period to which this requirement applies is April 1 through October 31 or, for an individual vessel owner, when the tier limit for the permit(s) registered to the vessel has been reached, whichever is earlier.

* * * * *

3. In § 660.231, add paragraph (b)(1) to read as follows:

§ 660.231 Limited entry fixed gear sablefish primary fishery.

* * * * *

(b) * * *

(1) Season dates. North of 36° N lat., the sablefish primary season for the limited entry, fixed gear, sablefish-endorsed vessels begins at 12 noon local time on April 1 and closes at 12 noon local time on October 31, or closes for an individual vessel owner when the tier limit for the sablefish endorsed permit(s) registered to the vessel has been reached, whichever is earlier, unless otherwise announced by the Regional Administrator through the routine management measures process described at § 660.60(c).

* * * * *

[FR Doc. 2021-05560 Filed 3-17-21; 8:45 am]

BILLING CODE 3510-22-P